INTERNATIONAL TRADE COMMISSION

[Investigation TA-2111-1]

The Impact of Trade Agreements: Effect of the Tokyo Round, U.S.-Israel FTA, U.S.-Canada FTA, NAFTA, and the Uruguay Round on the U.S. Economy

AGENCY: International Trade Commission.

ACTION: Request for additional written comments.

SUMMARY: The United States International Trade Commission invites additional public input from interested parties (e.g., manufacturers, service providers, labor, other interest groups, etc.) regarding the impact of the following trade agreements: the Tokyo Round of Multilateral Trade Negotiations, the United States-Israel Free Trade Agreement, the United States-Canada Free Trade Agreement, the North American Free Trade Agreement, and the Uruguay Round Agreements. In particular, the Commission is interested in the impact of these five agreements on a sector-specific basis.

DATES: Effective Date: February 24, 2003.

To be assured of consideration by the Commission, written comments (a signed original and 14 copies of each set of comments, along with a cover letter) should be submitted no later than March 31, 2003.

FOR FURTHER INFORMATION CONTACT: John Davitt, Industries Coordinator (202-205-3407), Office of Industries, U.S. International Trade Commission, Washington, DC 20436. For information on other aspects of this investigation, contact Kyle Johnson, Project Leader (202-205-3229) or Russell Hillberry, Deputy Project Leader (202-708-5405), Office of Economics. Hearing-impaired persons can obtain information on this matter by contacting the Commission's TDD terminal on 202-205-1810. General information concerning the Commission also may be obtained by accessing its Internet server (http://www.usitc.gov). The public record for this study may be viewed on the Commission's electronic docket at ­ http://edis.usitc.gov.

SUPPLEMENTARY INFORMATION: The Commission instituted the investigation for the purpose of fulfilling the requirement in section 2111 of the Trade Act of 2002 (Pub. L. 107-210, 116 Stat. 933), that it report to the Committee on Ways and Means of the House of Representatives and the Committee on Finance of the Senate not later than one year after the date of enactment (i.e., by August 6, 2003) regarding the economic impact on the United States of the aforementioned trade agreements. The Commission held a public hearing in connection with the investigation on January 14, 2003. 67 FR 59007 (Sept. 19, 2002).

To further inform the quantitative and qualitative analysis that will be included in the report, the Commission seeks additional input from interested parties (e.g., manufacturers, service providers, labor, other interest groups, etc.) concerning their opinions or experiences with respect to the trade agreements. The Commission invites commentators to address in as much detail as possible the impact of these five agreements, their specific provisions, and their effectiveness. In particular, the Commission is interested in the impact of the five trade agreements on individual sectors relative to any other developments that have affected the sectors since 1980 (e.g., changes in government regulation or trade policy, industry structure, technology, level of globalization, and competitive strength/position relative to foreign producers). The Commission also is interested in any sector-specific differentiation that can be made between the effects of tariff liberalization versus non-tariff measure liberalization. In this regard, the Commission also seeks interested party views on the effectiveness of negotiated commitments in facilitating actual market access.

Written Submissions: Commercial or financial information that a submitter desires the Commission to treat as confidential must be submitted on separate sheets of paper, each clearly marked “Confidential Business Information” at the top. All submissions requesting confidential treatment must conform with the requirements of § 201.6 of the Commission's rules of practice and procedure (19 CFR 201.6). All written submissions, except for confidential business information, will be made available in the Office of the Secretary of the Commission for inspection by interested parties.

The Congressional committees have requested that the Commission prepare a public report (containing no confidential business information). Accordingly, any confidential business information received by the Commission in this investigation and used in preparing the report will not be published in a manner that would reveal the operations of the entity supplying the information. All submissions should be addressed to the Secretary, United States International Trade Commission, 500 E Street SW, Room 112, Washington, DC 20436. Hand-delivered comments must be delivered to the prescribed room during the Commission's official business hours (8:45 a.m. to 5:15 p.m.) in order to be deemed filed on the day they are delivered. The Commission's Rules do not authorize filing of submissions with the Secretary by facsimile or electronic means, except to the extent permitted by section 201.8 of the Commission's Rules, as amended, 67 FR 68036 (Nov. 8, 2002).

List of Subjects

TPA, Trade Act of 2002, Tariffs, Imports.

By Order of the Commission.
Issued: February 25, 2003.
Marilyn R. Abbott,
Secretary to the Commission.

[FR Doc. 03-4824 Filed 2-28-03; 8:45 am]

BILLING CODE 7020-02-P